CONSUMER PRODUCT SAFETY COMMISSION

Sunshine Act Meeting Notice

TIME AND DATE: Wednesday August 12, 2015, 9 a.m.-11 a.m.

PLACE: Hearing Room 420, Bethesda Towers, 4330 East-West Highway, Bethesda, Maryland.

STATUS: Commission Meeting—Open to the Public

Matter To Be Considered: Decisional Meeting: Electronic Filing of Certificates of Compliance—Pilot Program—Federal Register Notice

A live webcast of the Meeting can be viewed at www.cpsc.gov/live.

For a recorded message containing the latest agenda information, call (301) 504-7948.

CONTACT PERSON FOR MORE INFORMATION: Todd A. Stevenson, Office of the Secretary, U.S. Consumer Product Safety Commission, 4330 East-West Highway, Bethesda, MD 20814, (301) 504-7923.

Dated: July 30, 2015.
Todd A. Stevenson,
Secretariat.

[FR Doc. 2015-19175 Filed 7-31-15; 4:15 pm]

BILLING CODE 6355-01-P